DEPARTMENT OF TRANSPORTATION

Maritime Administration

[Docket No. MARAD-2023-0178]

Request for Comments on the Renewal of a Previously Approved Collection: Generic Clearance of Customer Satisfaction Surveys

AGENCY: Maritime Administration, DOT.

ACTION: 30-Day Federal Register notice.

SUMMARY: The Maritime Administration (MARAD) invites public comments on our intention to request the Office of Management and Budget (OMB) approval to renew an information collection in accordance with the Paperwork Reduction Act of 1995. The proposed collection OMB 2133-0546 (Generic Clearance of Customer Satisfaction Surveys) is used to obtain feedback about customer service delivery. We are required to publish this notice in the Federal Register to obtain comments from the public and affected agencies. A 60-day Federal Register Notice soliciting comments on this information collection was published on June 6, 2023.

ADDRESSES: Written comments and recommendations for the proposed information collections should be sent within 30 days of publication of this notice to www.reginfo.gov/public/do/ PRAMain. Find this particular information collection by selecting “Currently under 30-day Review—Open for Public Comments” or by using the search function.

FOR FURTHER INFORMATION CONTACT: Tamelia Bolton, (202) 366-7278, Office of Management and Administrative Services, Maritime Administration, Department of Transportation, 1200 New Jersey Avenue SE, Washington, DC 20590, Email: Tamelia.Bolton@dot.gov.

SUPPLEMENTARY INFORMATION: Title: Generic Clearance of Customer Satisfaction Surveys.

OMB Control Number: 2133-0546.

Type of Request: Renewal of a Previously Approved Information Collection.

Abstract: OMB 2133-0546 (Generic Clearance Customer Satisfaction Surveys) is necessary to enable MARAD to garner customer and stakeholder feedback in an efficient and timely manner, in accordance with our commitment to improve service delivery. The collected information will help ensure that users have an effective, efficient, and satisfying experience with the agency's programs. This feedback will also provide insight into customer or stakeholder perceptions, experiences, and expectations. This collection is also intended to provide early warning about issues with service delivery, or focus attention on areas where communication, training, and/or changes in operations might improve customer service experience. Additionally, this collection will facilitate ongoing, collaborative, and actionable communication between MARAD and its customers and stakeholders. Public feedback is also expected to contribute directly to the improvement of program operations that directly affect the public.

Respondents: Individuals and Households, Business and Organizations, State, Local or Tribal Government.

Affected Public: Individuals and Households, Business and Organizations, State, Local or Tribal Government.

Estimated Number of Respondents: 5,900.

Estimated Number of Responses: 5,900.

Estimated Hours per Response: 10-120 mins.

Annual Estimated Total Annual Burden Hours: 1,758.

Frequency of Response: Once per request.

(Authority: The Paperwork Reduction Act of 1995; 44 U.S.C. chapter 35, as amended; and 49 CFR 1.49)

By Order of the Maritime Administrator.
T. Mitchell Hudson, Jr.,
Secretary, Maritime Administration.

[FR Doc. 2023-17799 Filed 8-17-23; 8:45 am]

BILLING CODE 4910-81-P